Title 3—

The President

Proclamation 8221 of February 28, 2008

American Red Cross Month, 2008

By the President of the United States of America

A Proclamation

In 1881, Clara Barton established the American Red Cross, and for years afterward, she led that organization in its noble cause to provide healing, comfort, and hope to those in need. Today, her legacy lives on through the millions of individuals who have answered the timeless call to serve others. During American Red Cross Month, we honor this charitable organization, and we reflect on its remarkable achievements and contributions to our country.

The American Red Cross exemplifies the good heart of this Nation by leading humanitarian efforts at home and around the world. This past year the American Red Cross provided food, comfort, and medical assistance to the victims of the tragic bridge collapse in Minnesota, the devastating wildfires in California, and the tornadoes that affected several Southern States. From the mountains of Peru to the lowlands of Bangladesh, the American Red Cross and its partners helped to provide relief abroad to those affected by natural disasters and humanitarian emergencies.

The American Red Cross also helps provide vital assistance by organizing blood drives, teaching health and safety programs, and providing lifesaving supplies. By compassionately supporting our men and women in uniform and their families, it helps to lift the spirits of our wounded warriors. During this month, we send our heartfelt gratitude to the volunteers and staff of the American Red Cross.

NOW, THEREFORE, I, GEORGE W. BUSH, President of the United States of America and Honorary Chairman of the American Red Cross, by virtue of the authority vested in me by the Constitution and laws of the United States, do hereby proclaim March 2008 as American Red Cross Month. I commend the dedicated efforts of the American Red Cross, and I encourage all Americans to help make our world a better place by volunteering their time, energy, and talents for others.

IN WITNESS WHEREOF, I have hereunto set my hand this twenty-eighth day of February, in the year of our Lord two thousand eight, and of the Independence of the United States of America the two hundred and thirty-second.

[FR Doc. 08-940

Filed 2-29-08; 8:58 am]

Billing code 3195-01-P